DEPARTMENT OF EDUCATION

[ED-2015-IES-0100]

Privacy Act of 1974; System of Records—Impact Evaluation of Data-Driven Instruction Professional Development for Teachers

AGENCY: Institute of Education Sciences, Department of Education.

ACTION: Notice of a new system of records; extension of comment period.

SUMMARY: On December 2, 2015, we published in the Federal Register (80 FR 75452) a notice of a new system of records entitled “Impact Evaluation of Data-Driven Instruction Professional Development for Teachers” (#18-13-39). That notice established a 30-day comment period beginning on December 2, 2015, and closing on January 4, 2016. We are extending the public comment period for an additional 30 days, until February 18, 2016.

DATES: We must receive your comments on or before February 18, 2016.

ADDRESSES: Submit your comments through the Federal eRulemaking Portal or via U.S. mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• U.S. Mail, Commercial Delivery, or Hand Delivery: If you mail or deliver your comments about the proposed system of records, address them to Dr. Audrey Pendleton, U.S. Department of Education, 550 12th Street SW., Suite 4160, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Dr. Audrey Pendleton, Associate Commissioner, Evaluation Division, National Center for Education Evaluation and Regional Assistance, Institute of Education Sciences, U.S. Department of Education, 555 12th Street SW., Suite 4160, Washington, DC 20202. Telephone: (202) 245-8385.

If you use a telecommunications device for the deaf or a text telephone, call the Federal Relay Service, toll free, at 1-800-877-8339.

SUPPLEMENTARY INFORMATION: Due to a technical problem with this particular docket in www.regulations.gov, interested parties were not able to submit comments through www.regulations.gov during the 30-day comment period. Therefore, we are extending the comment period for an additional 30 days to give any interested party an opportunity to submit comments through www.regulations.gov.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at this site.

You may also access documents of the Department published in the Federal Register by using the article search feature at: www.federalregister.gov. Specifically, through the advanced search feature at this site, you can limit your search to documents published by the Department.

Dated: January 13, 2016.
Ruth Curran Neild,
Deputy Director for Policy and Research, Delegated Duties of the Director of the Institute of Education Sciences.

[FR Doc. 2016-00919 Filed 1-15-16; 8:45 am]

BILLING CODE 4000-01-P